CONSUMER PRODUCT SAFETY COMMISSION

16 CFR Parts 1500 and 1507

[Docket No. CPSC-2006-0034]

Amendments to Fireworks Regulations; Notice of Extension of Comment Period

AGENCY: Consumer Product Safety Commission.

ACTION: Extension of comment period.

SUMMARY: The Consumer Product Safety Commission (Commission or CPSC) published a notice of proposed rulemaking (NPR) regarding fireworks in the Federal Register on February 2, 2017. The NPR invited the public to submit written comments during a 75-day comment period beginning on the NPR publication date. In response to a request for an extension of the comment period, the Commission is extending the comment period by 90 days.

DATES: Submit comments by July 17, 2017.

ADDRESSES: You may submit comments, identified by Docket No. CPSC-2006-0034, electronically or in writing:

Electronic Submissions: You may submit electronic comments to the Federal eRulemaking Portal at: http://www.regulations.gov, by following the instructions for submitting comments. The Commission does not accept comments submitted by electronic mail (email), except through www.regulations.gov.

Written Submissions: You may submit written comments by mail, hand delivery, or courier to: Office of the Secretary, Consumer Product Safety Commission, Room 820, 4330 East West Highway, Bethesda, MD 20814; telephone (301) 504-7923.

Instructions: All submissions must include the agency name and docket number for this notice. All comments may be posted to http://www.regulations.gov without change, including any personal identifiers, contact information, or other personal information. Do not submit confidential business information, trade secret information, or other sensitive or protected information that you do not want to be available to the public. If you submit such information, the Commission recommends that you do so by mail, hand delivery, or courier.

Docket: To read background documents or comments regarding this rulemaking, go to: http://www.regulations.gov, insert docket number CPSC-2006-0034 in the “Search” box, and follow the prompts.

SUPPLEMENTARY INFORMATION: On February 2, 2017, the Commission published an NPR in the Federal Register, proposing amendments to the fireworks regulations in 16 CFR parts 1500 and 1507, under the authority of the Federal Hazardous Substances Act (15 U.S.C. 1261-1278). 82 FR 9012. The NPR provided a 75-day comment period, which will close on April 18, 2017. The National Fireworks Association has requested that the Commission extend the comment period an additional 90 days, in light of the broad scope of the amendments proposed in the NPR, the complex and highly-technical nature of the proposed amendments, and the potential impact on industry members.

The Commission grants this request, extending the comment period for an additional 90 days, until July 17, 2017.¹

¹ The Commission voted 4-1 to approve the comment period extension request. Acting Chairman Ann Marie Buerkle, Commissioner Robert S. Adler, Commissioner Marietta S. Robinson and Commissioner Joseph P. Mohorovic voted to approve the extension notice. Commissioner Elliot F. Kaye voted against the extension notice.

Dated: April 11, 2017.
Todd A. Stevenson,
Secretary, U.S. Consumer Product Safety Commission.

[FR Doc. 2017-07556 Filed 4-13-17; 8:45 am]

BILLING CODE 6355-01-P